FEDERAL COMMUNICATIONS COMMISSION

47 CFR Parts 0, 1 and 43

[OI Docket No. 24-523, MD Docket No. 25-524; DA 25-403; FR ID 295221]

Review of Submarine Cable Landing License Rules and Procedures To Assess Evolving National Security, Law Enforcement, Foreign Policy, and Trade Policy Risks; Schedule of Application Fees

AGENCY: Federal Communications Commission.

ACTION: Proposed rule; extension of the reply comment period.

SUMMARY: In this document, the Office of International Affairs (OIA), of the Federal Communications Commission (Commission), announces an extension of, sua sponte, the filing deadline for reply comments of a Notice of Proposed Rulemaking, FCC 24-119. We find that a brief extension of time for the reply comment period served the public interest by allowing the parties to gather the information needed to prepare and submit their reply comments, which facilitated the development of a more complete record.

DATES: The reply comments period is extended to May 19, 2025.

FOR FURTHER INFORMATION CONTACT: Contact Desiree Hanssen, Attorney Advisor, Telecommunications and Analysis Division, Office of International Affairs, at (202) 418-0887 or via email at Desiree.Hanssen@fcc.gov.

SUPPLEMENTARY INFORMATION: This is a summary of the Commission's Order in OI Docket No 24-523 and MD Docket No. 24-524; DA 25-403, adopted on May 9, 2025 and released on May 9, 2025. The full text of this document is available on the FCC's website at https://docs.fcc.gov/public/attachments/DA-25-403A1.pdf.

By this Order, the Office of International Affairs (OIA) extended, sua sponte, the filing deadline for reply comments regarding the above-captioned proceedings until May 19, 2025.

On November 21, 2024, the Commission adopted a Notice of Proposed Rulemaking (NPRM) proposing and seeking comment on changes to its submarine cable rules.¹ The Commission set deadlines for filing comments and reply comments in response to the NPRM at 30 and 60 days, respectively, after publication of the NPRM in the Federal Register.² The comment deadline was April 14, 2025 and the reply comment deadline was set to May 12, 2025.³

¹ Review of Submarine Cable Landing License Rules and Procedures to Assess Evolving National Security, Law Enforcement, Foreign Policy, and Trade Policy Risks; Amendment of the Schedule of Application Fees Set Forth in §§ 1.1102 through 1.1109 of the Commission's Rules, OI Docket No. 24-523, MD Docket No. 24-524, Notice of Proposed Rulemaking, FCC 24-19, at 1 (2024).

² See id. at 1, 117.

³ Federal Communications Commission, Review of Submarine Cable Landing License Rules and Procedures To Assess Evolving National Security, Law Enforcement, Foreign Policy, and Trade Policy Risks; Schedule of Application Fees, 90 FR 12036, 12036 (Mar. 13, 2025).

To allow parties a reasonable opportunity in which to submit reply comments, OIA, sua sponte, extended the time period for filing reply comments. Although the Commission's policy is that extensions of time shall not be routinely granted,⁴ we found that a brief extension of time for the reply comment period served the public interest by allowing the parties to gather the information needed to prepare and submit their reply comments, which facilitated the development of a more complete record.

⁴ See 47 CFR 1.46(a).

Accordingly, it is ordered, pursuant to Section 4(i)-(j) of the Communications Act, as amended, 47 U.S.C. 154(i)-(j), and §§ 0.19(g) and 0.351 of the Commission's rules, 47 CFR 0.19(g) and 0.351, that the date for filing reply comments is extended to May 19, 2025.

It is further ordered, that pursuant to § 1.102(b)(1) of the Commission's rules, 47 CFR 1.102(b)(1), this Order shall be effective on May 9, 2025.

Initial Paperwork Reduction Act of 1995 Analysis: This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Federal Communications Commission.
Thomas Sullivan,
Acting Chief, Office of International Affairs.

[FR Doc. 2025-10050 Filed 6-10-25; 8:45 am]

BILLING CODE 6712-01-P